DEPARTMENT OF THE INTERIOR

Fish and Wildlife Service

[FWS-R3-FHC-2016-N110]; [FXFR13340300000-145-FF03F00000]

Fisheries and Habitat Conservation; Draft Supplemental Environmental Impact Statement for the Ballville Dam Project on the Sandusky River, Sandusky County, Ohio

AGENCY: Fish and Wildlife Service, Interior.

ACTION: Notice of availability; announcement of meeting; request for comments.

SUMMARY: We, the U.S. Fish and Wildlife Service (Service), announce the availability of a draft supplemental environmental impact statement (SEIS) that has been prepared to evaluate the Ballville Dam Project, in Sandusky County, Ohio, in accordance with the requirements of the National Environmental Policy Act (NEPA). We are also announcing a public meeting and requesting public comments.

DATES:

Submitting Comments: We will consider all comments regarding the draft SEIS received or postmarked by April 11, 2016 and respond to them as appropriate.

Public Meeting: We will conduct a public meeting in Fremont, Ohio, on March 15, 2016, from 7 to 9 p.m. The meeting will provide the public with an opportunity to present comments, ask questions, and discuss issues with Service staff and our cooperating agencies regarding the draft SEIS.

ADDRESSES:

Submitting Comments: You may submit comments on the draft SEIS by any one of the following methods:

• U.S. mail or hand-delivery: Brian Elkington, U.S. Fish and Wildlife Service, Fisheries, 5600 American Boulevard West, Suite 990, Bloomington, MN 55437-1458.

• Email: Ballvilledam@fws.gov.

• Fax: (612) 713-5289 (Attention: Brian Elkington).

Viewing Comments by the Environmental Protection Agency: For how to view comments on the draft SEIS from the Environmental Protection Agency (EPA), or for information on EPA's role in the EIS process, see EPA's Role in the EIS Process under SUPPLEMENTARY INFORMATION.

Public Meeting: The meeting will take place at Terra State Community College, Neeley Center, 2830 Napoleon Road, Fremont, Ohio, 43420. A hard copy of the draft SEIS and associated documents will be available for review at the Birchard Public Library, 423 Croghan Street, Fremont, Ohio 43420, as well as online at http://www.fws.gov/midwest/fisheries/ballville-dam.html.

FOR FURTHER INFORMATION CONTACT: Brian Elkington, (612) 713-5168. Individuals who are hearing impaired or speech impaired may call the Federal Relay Service at (800) 877-8337 for TTY assistance.

SUPPLEMENTARY INFORMATION: We announce the availability of a draft supplemental environmental impact statement (SEIS) that has been prepared to evaluate the Ballville Dam Project, in Sandusky County, Ohio, in accordance with the requirements of the National Environmental Policy Act (NEPA). We are also announcing a public meeting and requesting public comments.

Background

Ballville Dam was built in 1913 for hydroelectric power generation. The City of Fremont purchased the dam in 1959 from the Ohio Power Company for the purpose of supplying water to the city. With the construction of a raw water reservoir, the dam is no longer required for this purpose. Moreover, in 2007, the Ohio Department of Natural Resources issued a Notice of Violation to the City, stating that the dam was being operated in violation of the law as a result of its deteriorated condition.

Ballville Dam is currently a complete barrier to upstream fish passage and impedes hydrologic processes. The purpose for the issuance of Federal funds and preparation of this Draft SEIS is to remove Ballville Dam and restore natural hydrological processes over a 40-mile stretch of the Sandusky River, reopen fish passage to 22 miles of additional habitat, restore flow conditions for fish access to habitat above the impoundment, and improve overall conditions for native fish communities in the Sandusky River system, restoring self-sustaining fish resources.

We published a final EIS in the Federal Register on August 1, 2014 (79 FR 44856), for the Ballville Dam Project that addressed the environmental, economic, cultural and historical, and safety issues associated with the proposed removal of the dam and a suite of alternatives. The final EIS analyzed four alternatives for the removal: (1) Proposed Action—Incremental Dam Removal with Ice Control Structure; (2) No Federal Action; (3) Fish Elevator Structure; and (4) Dam Removal with Ice Control Structure. The final EIS considered the direct, indirect, and cumulative effects of the alternatives, including any measures under the Proposed Action alternative intended to minimize and mitigate such impacts. The final EIS also identified additional alternatives that were considered, but were eliminated from consideration as detailed in Section 2.3 of the final EIS.

Draft Supplemental Environmental Impact Statement

This draft SEIS provides further discussion of the potential significant impacts of the proposed action and an analysis of reasonable alternatives to the proposed action, specifically within the context of additional information made available since completion of final EIS for this project. This additional information addresses estimates of total quantity of sediment impounded by Ballville Dam, the potential impacts of the proposed alternative on harmful algal blooms (HABs) in the Sandusky River and Lake Erie due to the proposed sediment release, the potential impacts of the proposed alternative on downstream habitats due to sediment release, the accuracy of cost estimates of sediment removal within the EIS, evaluation of a bypass and excavation alternative provided in comments on the FEIS, and the potential for beneficial reuse of sediments impounded by Ballville Dam. Although we concluded that these topics were sufficiently addressed in the FEIS, we provide additional review and assessment in this Draft SEIS to help further clarify the issues. To complete this aspect of the Draft SEIS, we consulted subject matter experts to help review FEIS materials and clearly articulate our understanding of them. The resulting additional information and explanation has been incorporated within this Draft SEIS.

EPA's Role in the EIS Process

In addition to this notice of the draft SEIS, EPA is publishing a Federal Register notice announcing the draft SEIS, as required under section 309 of the Clean Air Act (42 U.S.C. 7401 et seq.; CAA). The publication of EPA's notice is the official start of the minimum requirement for a 45-day public comment period for an EIS. The EPA is charged under the CAA to review all Federal agencies' EISs and to comment on the adequacy and the acceptability of the environmental impacts of proposed actions in the EISs. EPA also serves as the repository (EIS database) for EISs prepared by Federal agencies. The EIS database provides information about EISs prepared by Federal agencies, as well as EPA's comments concerning the EISs. All EISs are filed with EPA, which publishes a notice of availability on Fridays in the Federal Register. For more information, see http://www.epa.gov/compliance/nepa/eisdata.html. You may search for EPA comments on EISs, along with EISs themselves, at https://cdxnodengn.epa.gov/cdx-enepa-public/action/eis/search.

Public Comments

Letters describing the proposed action and soliciting comments will be sent to appropriate Federal, State, and local agencies, and to private organizations and citizens who have previously expressed or are known to have interest in this proposal. To ensure that the full range of issues related to this proposed action are addressed and all significant issues identified, comments and suggestions are invited from all interested parties.

We request data, comments, new information, or suggestions from the public, concerned governmental agencies, the scientific community, tribes, industry, or any other interested party on this notice. We specifically request comments regarding the additional information and analyses presented in the draft SEIS.

You may submit your comments and materials considering this notice by one of the methods listed in the ADDRESSES section.

Public Availability of Comments

All comments and materials we receive in response to this request will be available for public inspection, by appointment, during normal business hours at the address listed in the ADDRESSES section of this notice.

Before including your address, phone number, email address, or other personal identifying information in your comment, you should be aware that your entire comment—including your personal identifying information—may be made publicly available at any time. While you can ask us in your comment to withhold your personal identifying information from public review, we cannot guarantee that we will be able to do so.

Authority

This notice is being furnished as provided for by NEPA and its implementing Regulations (40 CFR 1501.7 and 1508.22). The intent of the notice is to obtain suggestions and additional information from other agencies and the public on the draft SEIS. Comments and participation in this process are solicited.

Dated: February 22, 2016.
Kurt Schilling,
Acting Assistant Regional Director, Fisheries, Midwest Region.

[FR Doc. 2016-04134 Filed 2-25-16; 8:45 am]

BILLING CODE P